DEPARTMENT OF COMMERCE

International Trade Administration

President's Advisory Council on Doing Business in Africa

AGENCY: U.S. Department of Commerce, International Trade Administration.

ACTION: Notice of an open meeting.

SUMMARY: The President's Advisory Council on Doing Business in Africa (PAC-DBIA or Council) will hold the third meeting of its 2019-2021 term to deliberate and adopt recommendations on measures the U.S. Government should consider in implementing and operationalizing the President's Prosper Africa initiative.

DATES: July 28, 2020, 12-1:00 p.m. EDT.

ADDRESSES: The President's Advisory Council on Doing Business in Africa meeting will be held via teleconference. For instructions on how to participate in the meeting, please see the SUPPLEMENTARY INFORMATION section of this notice. The final agenda for the meeting will be posted at least one week in advance of the meeting on the Council's website at http://trade.gov/pac-dbia.

FOR FURTHER INFORMATION CONTACT: Giancarlo Cavallo or Ashley Bubna, Designated Federal Officers, President's Advisory Council on Doing Business in Africa, Department of Commerce, 1401 Constitution Ave. NW, Room 22004, Washington, DC 20230, telephone: 202-766-8044; 202-250-9798, email: dbia@trade.gov; Giancarlo.Cavallo@trade.gov; Ashley.Bubna@trade.gov.

SUPPLEMENTARY INFORMATION:

Background: The Council was established on November 4, 2014, to advise the President, through the Secretary of Commerce, on strengthening commercial engagement between the United States and Africa. The Council's charter was renewed for a third, two-year term in September 2019. The Council was established in accordance with the provisions of the Federal Advisory Committee Act, as amended, 5 U.S.C. App.

Requests to Attend: Anyone wishing to attend this meeting via teleconference must register by 5:00 p.m. July 21, 2020. In order to register, please submit your full name, email address, and phone number to dbia@trade.gov. Registrants will receive email confirmation with dial-in instructions for the teleconference. Members of the public are allowed to participate in listen only mode.

Public Submissions: The public is invited to submit written statements to the Council through Giancarlo Cavallo and Ashley Bubna, Designated Federal Officers for the President's Advisory Council on Doing Business in Africa, via email: dbia@trade.gov.

Statements must be received by 5:00 p.m. July 21, 2020. Statements will be provided to the members in advance of the meeting for consideration and may be posted on the Council website (http://trade.gov/pac-dbia). Any business proprietary information should be clearly designated as such. All statements received, including attachments and other supporting materials, are part of the public record and subject to public disclosure.

Meeting minutes: Copies of the Council's meeting minutes will be available within ninety (90) days of the meeting on the Council's website at http://trade.gov/pac-dbia.

Frederique Stewart,
Director, Office of Africa.

[FR Doc. 2020-15433 Filed 7-16-20; 8:45 am]

BILLING CODE 3510-DR-P